DEPARTMENT OF COMMERCE

National Oceanic and Atmospheric Administration

New England Fishery Management Council; Public Hearings

AGENCY: National Marine Fisheries Service (NMFS), National Oceanic and Atmospheric Administration (NOAA), Commerce.

ACTION: Public Hearing; Request for Comments.

SUMMARY: The New England Fishery Management Council (Council) will hold a supplemental public hearing to solicit Scoping comments on Draft Amendment 19 to the Northeast Small-Mesh Multispecies Fishery Management Plan (FMP).

DATES: The public hearing will be held on Tuesday, May 29, 2012 at 10 a.m.

ADDRESSES: The Council will take comments at the public hearing at the Holiday Inn, 31 Hampshire Street, Mansfield, MA 02048; telephone: (508) 339-2200.

The written comment period has been extended and should be sent to Paul Howard, Executive Director, 50 Water Street, Mill 2, Newburyport, MA 01950. Comments may also be sent via fax to (978) 465-3116 or submitted via email to comment@nefmc.org with “Comment on Small Mesh Multispecies Amendment 19” in the subject line. Requests for copies of the public hearing document and other information should be directed to Paul J. Howard, Executive Director, New England Fishery Management Council, 50 Water Street, Mill 2, Newburyport, MA 01950; telephone: (978) 465-0492. The public hearing document is also accessible electronically via the Internet at http://www.nefmc.org/mesh/index.html.

FOR FURTHER INFORMATION CONTACT: Paul J. Howard, Executive Director, New England Fishery Management Council; telephone: (978) 465-0492.

SUPPLEMENTARY INFORMATION: Council staff will provide information on the status of Amendment 19 to the Northeast Multispecies FMP. The draft alternatives include annual limits on catch and landings by fishery program and/or stock, in-season and post-season accountability measures including incidental possession limits, year round red hake possession limits, monitoring and specification setting procedures, and a proposed increase in the 30,000 lbs. silver hake possession limit in the Southern New England and Mid-Atlantic Exemption Areas. Final alternatives were approved at the April 24-26, 2012 Council meeting, but the Council will take supplemental action at the June 19-21, 2012 Council meeting on proposed increase in the 30,000 lbs. silver hake (whiting) possession limit. There will be time available for questions and answers.

Written comment period has been extended on the draft amendment and must be received by 5 p.m. EDT, Thursday, May 24, 2012 and may be mailed to the Council office at the address above, faxed to (978) 465-3116 or emailed to: comment@nefmc.org (attention/subject line: Comment on Small Mesh Multispecies Amendment 19).

Special Accommodations

The hearing is physically accessible to people with physical disabilities. Requests for sign language interpretation or other auxiliary aids should be directed to Paul J. Howard (see ADDRESSES) at least 5 days prior to the meeting date.

Authority: 16 U.S.C. 1801 et seq.

Dated: May 7, 2012.
Tracey L. Thompson,
Acting Director, Office of Sustainable Fisheries, National Marine Fisheries Service.

[FR Doc. 2012-11280 Filed 5-9-12; 8:45 am]

BILLING CODE 3510-22-P